DEPARTMENT OF ENERGY

Western Area Power Administration

Construction, Operation, and Maintenance of the Proposed Transmission Agency of Northern California Transmission Project, California

AGENCY: Western Area Power Administration, DOE.

ACTION: Notice of intent to prepare an environmental impact statement/environmental impact report and conduct scoping meetings; notice of floodplain and wetlands involvement.

SUMMARY: The Western Area Power Administration (Western), an agency of the DOE intends to prepare a joint environmental impact statement/environmental impact report (EIS/EIR) for the construction, operation, and maintenance of the proposed Transmission Agency of Northern California (TANC) Transmission Project (Project) in California. Western is issuing this Notice to inform the public and interested parties about the proposed Project, conduct a public scoping process, and invite the public to comment on the scope, proposed action, alternatives, and other issues to be addressed in the EIS/EIR.

The EIS/EIR will address the construction, maintenance, and operation of the proposed Project, which would include building and upgrading about 600 miles of 230-kilovolt (kV) and 500-kV transmission lines and associated equipment and facilities in northern California. Portions of the proposed Project may affect floodplains and wetlands in the area. Western and TANC will hold public scoping meetings in 12 locations in the Project area during the public scoping period. At the scoping meetings, Western and TANC will share additional information on the proposed Project and receive comments and suggestions on the scope of the EIS/EIR.

DATES: The public scoping period begins with the publication of this Federal Register notice and closes on April 30, 2009. Please see the SUPPLEMENTARY INFORMATION section for scoping meeting dates.

ADDRESSES: Please see the SUPPLEMENTARY INFORMATION section for scoping meeting locations. Written comments on the scope of the EIS should be addressed to Mr. David Young, National Environmental Policy Act (NEPA) Document Manager, Western Area Power Administration, Sierra Nevada Region, 114 Parkshore Drive, Folsom, CA 95630, telephone (916) 353-4777, fax (916) 353-4772, or e-mail TTPEIS@wapa.gov.

FOR FURTHER INFORMATION CONTACT: Mr. David Young, NEPA Document Manager, Western Area Power Administration, Sierra Nevada Region, 114 Parkshore Drive, Folsom, CA 95630, telephone (916) 353-4777, fax (916) 353-4772, or e-mail TTPEIS@wapa.gov. Additional information and submitted comments on the proposed project can be found at http://www.wapa.gov/transmission/ttp.htm. For general information on DOE's NEPA review procedures or status of a NEPA review, contact Ms. Carol M. Borgstrom, Director of NEPA Policy and Compliance, GC-20, U.S. Department of Energy, 1000 Independence Avenue, SW., Washington, DC 20585, telephone (202) 586-4600 or (800) 472-2756.

SUPPLEMENTARY INFORMATION: Western, an agency within DOE, markets Federal hydroelectric power to preference customers, as specified by law. These customers include municipalities, cooperatives, irrigation districts, Federal and State agencies, and Native American tribes. Western's service territory covers 15 western states, including California. Western owns and operates more than 17,000 miles of high-voltage transmission lines.

TANC is a registered Transmission Owner, Transmission Planner, and Transmission Service Provider (as these terms are defined by the North American Electric Reliability Corporation). TANC's mission is to assist its publicly owned utility members in providing cost-effective energy supplies to their customers, through construction and long-term ownership of high-voltage transmission lines within California and the western United States. TANC's membership includes the California cities of Alameda, Biggs, Gridley, Healdsburg, Lodi, Lompoc, Palo Alto, Redding, Roseville, Santa Clara, and Ukiah, the Sacramento Municipal Utility District, Modesto Irrigation District, and Turlock Irrigation District. The Plumas-Sierra Rural Electric Cooperative is an associate member of TANC.

Advance Notice of Intent

Western published an Advance Notice of Intent (NOI) to Prepare an Environmental Impact Statement/Environmental Impact Report; Notice of Floodplain and Wetlands Involvement on January 7, 2008 (74 FR 707). The Advance NOI provided a project description and stated that Western would be issuing a formal NOI in early 2009 (74 FR 708). This is the formal NOI discussed in the Advance NOI.

Background and Need for Agency Action

Western and TANC propose to coordinate development of the proposed Project, which includes new and upgraded 230-kV and 500-kV transmission lines, substations, and related facilities. The Project would satisfy Western's and TANC's need to develop new access to renewable energy resources in northeastern California, northwestern Nevada, and the Pacific Northwest, enhance the California-Oregon Intertie, reduce existing congestion and system losses, increase the load-carrying capability and reliability of northern California's transmission system, improve the reliability of the Balancing Authority Area, in which Western resides, and relieve certain existing electrical transmission system constraints in northern California.

Project Description

Details and plans for the proposed Project and alternatives are still being developed and refinements will continue throughout the public scoping process. TANC would own all facilities of the proposed Project except for the Federal Transmission System owned by Western and the Sierra Foothills Segment, as noted below. Western's Federal Transmission System ownership includes the land rights, towers, and circuit 1 between Tracy Substation and Livermore Substation. Some of the facilities associated with the proposed Project may require modifications to and/or interconnections with Western's transmission system.

Proposed Routes and Alternative Routes

The proposed Project would be located entirely in California. The corridor would consist of five segments of transmission line that extend from northeastern California through the Central Valley and split westward to the San Francisco Bay area and eastward to the Sierra Foothills. The proposed corridors have been identified to avoid, to the extent possible, residential and known environmentally-sensitive areas, and take optimum advantage of accessible competitive renewable energy zones, as recommended by the State of California's Renewable Energy Transmission Initiative.

North Segment. The North Segment would include two, new, single-circuit, 500-kV transmission lines, each trending west from a proposed new substation near Ravendale to a proposed, substation near Pacific Gas & Electric Company's (PG&E) existing Round Mountain Substation. Three corridor alternatives, each 80 to 100 miles long, have been identified. These three alternative corridors would be located generally to the north of Eagle Lake and State Route (SR) 44; and near SR 299. The North Segment would include a new, 1-mile, double-circuit, 500-kV transmission line from the proposed new substation near Round Mountain to PG&E's Round Mountain Substation. The North Segment would continue with a new, double-circuit, 500-kV transmission line that would run 40 to 45 miles southwest to the California-Oregon Transmission Project's (COTP) existing Olinda Substation, south of Redding. Three corridor alternatives have been preliminarily identified for this segment.

Central Segment. The Central Segment would begin at the Olinda Substation and trend south, approximately 170 to 190 miles to Tracy. It would include a new, double-circuit, 500-kV transmission line through the Central Valley to a new substation in southern Sacramento County and on to a new substation near the COTP's existing Tracy Substation. Three possible alternative corridors have been identified for the Central Segment: the western, central, and eastern alternatives.

The 172-mile western corridor alternative of the Central Segment would lie along the western side of the Sacramento Valley. This alternative would be roughly parallel to and 5 to 20 miles west of the Interstate 5 corridor. It would pass just east of Black Butte Lake and west of the cities of Orland, Willows, and Williams. South of Winters, the western alternative would turn east and cross between the cities of Dixon and Vacaville before continuing east for approximately 35 miles to a proposed new substation in southern Sacramento County, west of SR 99 and south of Elk Grove.

The 167-mile central corridor alternative runs roughly parallel to and 5 to 10 miles west of SR 99 through the Sacramento Valley, just west of the cities of Red Bluff and Chico, then between the Sutter Buttes and Yuba City, and east of the cities of Woodland and Davis. The central alternative would then turn southeast, converging with the western alternative, and interconnect at the proposed new substation in southern Sacramento County.

The 173-mile eastern corridor alternative would be located west of the Sierra Foothills of the Sacramento Valley, roughly parallel to and 5 to 10 miles east of SR 99. This alignment would pass east of the cities of Red Bluff and Chico, through Oroville and east of Yuba City. This proposed alternative would then shift approximately 15 miles to the west and continue southward, just west of the Sacramento Airport and City of West Sacramento to the proposed substation in southern Sacramento County.

From the proposed new substation in southern Sacramento County, each of three alternative corridors would continue 40 to 45 miles southwest to a proposed new substation near the COTP's existing Tracy Substation.

West Segment. The West Segment would include two, double-circuit, 230-kV transmission lines from the Tracy area to the South San Francisco Bay area. The first would include upgrading the existing transmission line from the new substation near Tracy to Silicon Valley Power's existing Kifer Receiving Station (KRS) in Santa Clara. Construction of this transmission line would include upgrading about 13 miles of existing, double-circuit, 230-kV transmission line from the proposed substation near Tracy to Western's Livermore Substation, and building 30 to 40 miles of new, double-circuit, 230-kV transmission line from the Livermore Substation to the proposed substation near the KRS Substation. Up to 7 miles of this segment may be built underground. From the new substation near KRS, an approximately 500-foot, 115-kV transmission tie would be built to KRS. Two possible alternative corridors have been identified for this transmission line.

The second double-circuit, 230-kV transmission line would follow a southwesterly path from PG&E's existing Tesla Substation to just south of Livermore and through the cities of Fremont and Newark to PG&E's existing Newark Substation.

East Segment. This segment would include building 40 to 45 miles of new, double-circuit, 500-kV transmission line east from the new substation near Tracy, roughly paralleling Interstate 205 and SR 120, to a proposed substation located south of the Oakdale Airport. There are two corridor alternatives for the proposed 500-kV transmission line, both of which would run north of the cities of Tracy and Modesto and south of the cities of Manteca, Escalon, and Oakdale. From the new substation near the Oakdale Airport, the East Segment would split into two alignments: a 7- to 11-mile, double-circuit, 230-kV transmission line would run southwest to the Modesto Irrigation District's existing Parker Substation in Modesto; and a 15-to 22-mile, double-circuit, 230-kV line would run south to a proposed new substation located just east of Turlock. Three corridor alternatives have been identified for each of the two, proposed, 230-kV transmission lines.

Sierra Foothills Segment. The Sierra Foothills Segment would be built, owned, operated, and maintained by Western. This Segment would include a new, double-circuit, 230-kV transmission line, approximately 28 miles long. It would originate at the proposed substation near the Oakdale Airport and trend northeast, generally along SR 108, through the Sierra Foothills to Western's existing substation at the New Melones Dam. Alternative corridors for this segment have not been identified at this time.

No Action Alternative

Western and TANC will also consider the “No Action” alternative in the EIS/EIR. Under the No Action Alternative, the proposed Project would not be built.

Agency Responsibilities

To participate in the Project, Western must comply with NEPA (42 U.S.C. 4321-4347, as amended), Council on Environmental Quality Regulations for implementing NEPA (40 CFR 1500-1508), and DOE NEPA Implementing Procedures (10 CFR 1021). Because the proposed Project may involve action in floodplains or wetlands, the EIS/EIR will include, as applicable, a floodplain/wetland assessment and floodplain/wetland statement of findings following DOE regulations for compliance with floodplain and wetlands environmental review (10 CFR 1022).

Western is the lead Federal agency, as defined at 40 CFR 1501.5, for preparation of the NEPA analysis. The U.S. Department of Agriculture, Forest Service (USFS) and the U.S. Department of Interior, Bureau of Land Management (BLM) plan to be cooperating agencies because of their jurisdiction over proposed routing across public lands. TANC has applied to the USFS and the BLM for permits, which may involve amending current forest land and resource management plans and/or BLM resource management plans.

Tribes and other agencies with jurisdiction or special expertise are also invited to be cooperating agencies. Such tribes or agencies may make a request to Western to be a cooperating agency by contacting Mr. Young at the address listed above. Designated cooperating agencies have certain responsibilities to support the NEPA process, as specified at 40 CFR 1501.6(b).

TANC will be responsible for satisfying all requirements of the California Environmental Quality Act. Thus, Western, TANC, and cooperating agencies will prepare a joint EIS/EIR.

Environmental Issues

This notice is to inform agencies and the public of the proposed Project and solicit comments and suggestions for consideration in preparing the EIS/EIR. To help the public frame its comments, this notice contains a list of potential environmental issues that Western and TANC have tentatively identified for analysis. These issues include the following:

1. Impacts on protected, threatened, endangered, or sensitive species of animals or plants or their critical habitats;

2. Impacts on other biological resources;

3. Impacts on agriculture, land use, recreation, and transportation;

4. Impacts on floodplains and wetlands;

5. Impacts on cultural or historic resources and tribal values;

6. Impacts on human health and safety;

7. Impacts on air, soil, and water resources;

8. Visual impacts; and

9. Socioeconomic impacts and disproportionately high and adverse impacts to minority and low-income populations.

This list is not intended to be all-inclusive or to imply any predetermination of impacts. Western and TANC invite interested parties to suggest specific issues within these general categories, or other issues not included above, to be considered in the EIS/EIR.

Public Participation

Public participation and full disclosure are planned for the entire EIS/EIR process. The EIS/EIR process includes public review and hearings on the draft EIS/EIR; publication of a final EIS/EIR; and publication of a record of decision. The public scoping period begins with publication of this notice in the Federal Register and closes April 30, 2009. Western and TANC anticipate the Draft EIS/EIR will be available in early 2010, with a Final EIS/EIR available in early 2011. A record of decision is expected to be issued late in 2011. Persons interested in receiving future notices, Project information, copies of the EIS/EIR, and other information on the NEPA review process should contact Mr. Young.

Western and TANC will hold public scoping meetings as follows:

1. March 26, 2009, Radisson Hotel Sacramento, 500 Leisure Lane, Sacramento, CA 95815.

2. March 30, 2009, Sacred Heart Catholic Church, 507 East 4th Street, Alturas, CA 96101.

3. March 31, 2009, Burney Lions Club, 37006 Main Street, Burney, CA 96013.

4. April 1, 2009, Hyatt Regency Santa Clara, 5101 Great America Parkway, Santa Clara, CA 95054.

5. April 2, 2009, On Broadway, 153 South Broadway, Turlock, CA 95380.

6. April 6, 2009, Chico Family Masonic Center, 1110 West East Avenue, Chico, CA 95926.

7. April 7, 2009, Jensen Hall at Lassen County Fairgrounds, 195 Russell Avenue, Susanville, CA 96130.

8. April 8, 2009, Clarion Inn, 1612 Sisk Road, Modesto, CA 95350.

9. April 9, 2009, Platinum Conference Center at the Opera House, 902 Central Avenue, Tracy, CA 95376.

10. April 13, 2009, Red Lion Hotel, 1830 Hilltop Drive, Redding, CA 96002.

11. April 14, 2009, Granzella's Inn, 391 6th Street, Williams, CA 95987.

12. April 15, 2009, Lexington Plaza Waterfront Hotel, 110 West Fremont Street, Stockton, CA 95202.

Each meeting is scheduled to begin at 5:30 p.m. with an open-house format, during which attendees are invited to speak one-on-one with Project representatives and agencies. At approximately 6:30 p.m., a presentation will be given by the Project representatives, after which, the open-house format will resume. The meetings are scheduled to close no earlier than 8:30 p.m. Attendees are welcome to come and go at their convenience throughout the meeting.

The purpose of the scoping meetings is to provide information about the proposed Project, review Project maps, answer questions, and take written comments from interested parties. All meeting locations are handicapped-accessible. Anyone needing special accommodations should contact Mr. Young to make arrangements.

The public will have the opportunity to provide written comments at the public scoping meetings, or send them to Western by fax, e-mail, or U.S. Postal Service mail. Comments may also be submitted on-line at http://www.wapa.gov/transmission/ttp.htm. To help define the scope of the EIS/EIR, comments should be received by Western no later than April 30, 2009. Anonymous comments will not be accepted.

Dated: February 13, 2009.
Timothy J. Meeks,
Administrator.

[FR Doc. E9-3772 Filed 2-20-09; 8:45 am]

BILLING CODE 6450-01-P